DEPARTMENT OF ENERGY

Federal Energy Regulatory Commission

Combined Notice of Filings #1

May 21, 2008.

Take notice that the Commission received the following electric corporate filings:

Docket Numbers: EC08-89-000.

Applicants: Trans Bay Funding LLC, Trans Bay Holdings LLC, Trans Bay Holdings II LLC, Trans Bay Cable LLC, Babcock & Brown Infrastructure Group US.

Description: Babcock & Brown Infrastructure Group LLC et al (BBIG) requests authorization for the indirect disposition jurisdictional facilities owned by TransBay Cable resulting from the sales of BBIG of its ownership interests.

Filed Date: 05/16/2008.

Accession Number: 20080520-0248.

Comment Date: 5 p.m. Eastern Time on Friday, June 06, 2008.

Docket Numbers: EC08-90-000.

Applicants: Noble Environmental Power, LLC.

Description: Application For Order Under Section 203 of the FPA Authorizing Disposition Of Jurisdictional Facilities Resulting From An Initial Public Offering, And Request For Waivers And 21 Day Comment Period Of Noble Environmental Power, LLC.

Filed Date: 05/19/2008.

Accession Number: 20080519-5044.

Comment Date: 5 p.m. Eastern Time on Monday, June 09, 2008.

Docket Numbers: EC08-91-000.

Applicants: Horizon Asset Management, Inc.

Description: Horizon Asset Management submits a petition for disclaimer of jurisdiction.

Filed Date: 05/19/2008.

Accession Number: 20080521-0128.

Comment Date: 5 p.m. Eastern Time on Monday, June 09, 2008.

Take notice that the Commission received the following electric rate filings:

Docket Numbers: ER00-2268-026; ER07-428-005; ER99-4122-027; ER99-4124-023; Arizona Public Service Company.

Applicants: Pinnacle West Capital Corporation; Pinnacle West Marketing & Trading Co, LL; APS Energy Services Co Inc;

Description: Pinnacle West Capital Corp et al submits a compliance filing of additional information on their mitigation proposal for sales during the mitigated summer period in the Phoenix Valley Load Pocket.

Filed Date: 05/20/2008.

Accession Number: 20080521-0405.

Comment Date: 5 p.m. Eastern Time on Friday, May 30, 2008.

Docket Numbers: ER01-205-026; ER98-2640-024; ER98-4590-022; ER99-1610-030.

Applicants: Xcel Energy Services Inc.; Northern States Power Company, Northern States Power Company-Wisconsin; Public Service Company of Colorado; Southwestern Public Service Company.

Description: NSP Companies submits change in status report relating to the NSP companies market-based rate authority.

Filed Date: 05/16/2008.

Accession Number: 20080520-0244.

Comment Date: 5 p.m. Eastern Time on Friday, June 06, 2008.

Docket Numbers: ER02-136-010.

Applicants: Allegheny Power.

Description: Settlement Agreement by and between West Penn Power Company (dba Allegheny Power) and Allegheny Electric Cooperative, Inc.

Filed Date: 05/16/2008.

Accession Number: 20080516-5092.

Comment Date: 5 p.m. Eastern Time on Tuesday, May 27, 2008.

Docket Numbers: ER07-521-003.

Applicants: New York Independent System Operator, Inc.

Description: New York Independent System Operator, Inc submits their compliance revisions to its Open Access Transmission Tariff and Market Administration and Control Area Services Tariff to address the requirements of the 4/16/08 Order.

Filed Date: 05/16/2008.

Accession Number: 20080520-0289.

Comment Date: 5 p.m. Eastern Time on Friday, June 06, 2008.

Docket Numbers: ER08-617-001.

Applicants: California Independent System Operator Corporation.

Description: California Independent System Operator Corp submits a compliance filing re FERC's 4/29/08 Order.

Filed Date: 05/16/2008.

Accession Number: 20080520-0246.

Comment Date: 5 p.m. Eastern Time on Friday, June 06, 2008.

Docket Numbers: ER08-899-001.

Applicants: Ohio Power Company.

Description: Ohio Power Co submits an amendment to its 5/1/08 filing.

Filed Date: 05/19/2008.

Accession Number: 20080521-0131.

Comment Date: 5 p.m. Eastern Time on Tuesday, July 22, 2008.

Docket Numbers: ER08-961-000.

Applicants: Arizona Public Service Company.

Description: Arizona Public Service Company submits informational filing of its Annual Update of transmission service rates to the APS Open Access Transmission Tariff.

Filed Date: 05/16/2008.

Accession Number: 20080520-0231.

Comment Date: 5 p.m. Eastern Time on Friday, June 06, 2008.

Docket Numbers: ER08-962-000.

Applicants: American Electric Power Service Corporation.

Description: American Electric Power Service Corp submits the second revised Interconnection and Local Delivery Service Agreement.

Filed Date: 05/16/2008.

Accession Number: 20080520-0232.

Comment Date: 5 p.m. Eastern Time on Friday, June 06, 2008.

Docket Numbers: ER08-963-000.

Applicants: Commonwealth Edison Company, Commonwealth Edison Co. of Indiana, Inc.

Description: Commonwealth Edison Company et al. submits Informational Filing of 2008 Formula Rate Annual Update Pursuant to Approved Settlement Agreement.

Filed Date: 05/15/2008.

Accession Number: 20080520-0245.

Comment Date: 5 p.m. Eastern Time on Thursday, June 05, 2008.

Docket Numbers: ER08-964-000.

Applicants: Outback Power Marketing, Inc.

Description: Outback Power Marketing, Inc submits a Notice of Cancellation of its FERC Electric Tariffs.

Filed Date: 05/16/2008.

Accession Number: 20080520-0233.

Comment Date: 5 p.m. Eastern Time on Friday, June 06, 2008.

Docket Numbers: ER08-965-000.

Applicants: Midwest Independent Transmission System Operator, Inc.

Description: Midwest Independent Transmission System Operator, Inc submits proposed revisions to its OATT and Energy Market Tariff.

Filed Date: 05/16/2008.

Accession Number: 20080520-0234.

Comment Date: 5 p.m. Eastern Time on Friday, June 06, 2008.

Docket Numbers: ER08-966-000.

Applicants: Northeast Utilities Service Company.

Description: Northeast Utilities submits their application seeking two return on equity incentives for the Middletown-to-Norwalk transmission project.

Filed Date: 05/16/2008.

Accession Number: 20080520-0293.

Comment Date: 5 p.m. Eastern Time on Friday, June 06, 2008.

Docket Numbers: ER08-967-000.

Applicants: Nevada Power Company.

Description: Nevada Power Co submits a Notice of Cancellation of two Service Agreements for Long-Term Firm Point-to-Point Transmission Service with Mirant Americas Energy Marketing, LP.

Filed Date: 05/15/2008.

Accession Number: 20080520-0235.

Comment Date: 5 p.m. Eastern Time on Thursday, June 05, 2008.

Docket Numbers: ER08-968-000.

Applicants: Nevada Power Company.

Description: Nevada Power Company submits Notice of Cancellation of two Service Agreements for Long-Term Firm Point-to Point Transmission Service between Nevada Power Company and Mirant Las Vegas, LLC etc.

Filed Date: 05/15/2008.

Accession Number: 20080520-0236.

Comment Date: 5 p.m. Eastern Time on Thursday, June 05, 2008.

Docket Numbers: ER08-969-000.

Applicants: UGI Utilities, Inc.

Description: UGI Utilities, Inc submits a Formula Rate Informational Filing.

Filed Date: 05/15/2008.

Accession Number: 20080520-0237.

Comment Date: 5 p.m. Eastern Time on Thursday, June 05, 2008.

Docket Numbers: ER08-970-000.

Applicants: Duquesne Light Company.

Description: Duquesne Light Company submits Annual Update to recalculate its annual transmission revenue requirement pursuant to the formula rate accepted by the Commission for Filing in that proceeding etc.

Filed Date: 05/15/2008.

Accession Number: 20080520-0288.

Comment Date: 5 p.m. Eastern Time on Thursday, June 05, 2008.

Docket Numbers: ER08-971-000.

Applicants: Commonwealth Edison Company.

Description: Commonwealth Edison Company et al. submits revise Attachment H-13 (Network Integration Transmission Service for the ComEd Zone) of the PJM Interconnection, LLC Open Access Transmission Tariff effective 6/1/08.

Filed Date: 05/15/2008.

Accession Number: 20080520-0238.

Comment Date: 5 p.m. Eastern Time on Thursday, June 05, 2008.

Docket Numbers: ER08-972-000.

Applicants: California Independent System Operator Company.

Description: California Independent System Operator Co submits a Transmission Access Charge Informational filing.

Filed Date: 05/15/2008.

Accession Number: 20080520-0239.

Comment Date: 5 p.m. Eastern Time on Thursday, June 05, 2008.

Docket Numbers: ER08-973-000.

Applicants: American Electric Power Service Corporation.

Description: American Electric Power Service Corporation submits a fully executed generation interconnection agreement dated 5/5/08 between AEP Texas North Company and Jackson Mountain Wind, LLC.

Filed Date: 05/15/2008.

Accession Number: 20080520-0240.

Comment Date: 5 p.m. Eastern Time on Thursday, June 05, 2008.

Docket Numbers: ER08-974-000.

Applicants: Baltimore Gas and Electric Company.

Description: Baltimore Gas and Electric Company submits an Informational filing of its 2008 Formula Rate Annual Update.

Filed Date: 05/15/2008.

Accession Number: 20080520-0241.

Comment Date: 5 p.m. Eastern Time on Thursday, June 05, 2008.

Docket Numbers: ER08-975-000.

Applicants: American Electric Power Service Corporation.

Description: The American Electric Power Service Corporation agent for AEP Operating Companies submits a second revision to the Interconnection and Local Delivery Service Agreement 1418 with the City of Bryan.

Filed Date: 05/15/2008.

Accession Number: 20080520-0242.

Comment Date: 5 p.m. Eastern Time on Thursday, June 05, 2008.

Docket Numbers: ER08-984-000.

Applicants: Chien Energy, LLC.

Description: Chien Energy, LLC submits a notice of cancellation under ER08-984.

Filed Date: 05/19/2008.

Accession Number: 20080521-0139.

Comment Date: 5 p.m. Eastern Time on Monday, June 09, 2008.

Take notice that the Commission received the following electric securities filings:

Docket Numbers: ES08-45-001.

Applicants: American Transmission Company LLC, ATC Management Inc.

Description: Amended Application for Authorization to Issue Securities Under Section 204 of the Federal Power Act of American Transmission Company LLC and ATC Management Inc.

Filed Date: 05/19/2008.

Accession Number: 20080520-5007.

Comment Date: 5 p.m. Eastern Time on Friday, May 30, 2008.

Take notice that the Commission received the following open access transmission tariff filings:

Docket Numbers: OA07-39-001.

Applicants: Xcel Energy Services Inc.

Description: Xcel Energy Services Inc. submits Order No. 890, FPA Section 206 Compliance Filing.

Filed Date: 05/19/2008.

Accession Number: 20080520-5003.

Comment Date: 5 p.m. Eastern Time on Monday, June 09, 2008.

Take notice that the Commission received the following electric reliability filings:

Docket Numbers: RR06-1-016; RR07-3-004; RR07-8-004.

Applicants: North American Electric Reliability Corp.

Description: Compliance Filing of North American Electric Reliability Corp, et al., Coordinating Council to Paragraph 174 of Mar 21 2008 Order, and Compliance Filing of NERC and Florida Reliability Coord Council to Paragraph 252 of Mar 21 2008 Order.

Filed Date: 05/19/2008.

Accession Number: 20080519-5121.

Comment Date: 5 p.m. Eastern Time on Wednesday, June 18, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-12040 Filed 5-29-08; 8:45 am]

BILLING CODE 6717-01-P